DEPARTMENT OF HOMELAND SECURITY

Coast Guard

[Docket No. USCG-2023-0589]

Availability of Coast Guard Data to the Public in Implementation of the Open Government Data Act and To Support Coast Guard Rulemaking

AGENCY: Coast Guard, DHS.

ACTION: Notice of availability and request for comments.

SUMMARY: The Coast Guard announces the availability of Coast Guard data to the public in implementation of the Open Government Data Act and in support of Coast Guard rulemaking. The Coast Guard anticipates that the online data and geospatial dashboard will empower the general public, affected entities, and other interested parties to engage more effectively in Coast Guard rulemakings. We encourage you to submit comments describing what additional resources or data would help you participate in Coast Guard rulemakings.

DATES: Comments must be submitted to the online docket via https://www.regulations.gov on or before January 19, 2024.

ADDRESSES: You may submit comments identified by docket number USCG-2023-0589 using the Federal Decision-Making Portal at https://www.regulations.gov. See the “Public Participation and Request for Comments” portion of the SUPPLEMENTARY INFORMATION section for further instructions on submitting comments.

FOR FURTHER INFORMATION CONTACT: For information about this document call or email Evan Morris, Coast Guard Office Standards Evaluation and Development; telephone 571-608-6719, email Evan.Morris@uscg.mil.

SUPPLEMENTARY INFORMATION:

Public Participation and Comments

We encourage you to submit comments on your data needs to participate more effectively in Coast Guard rulemakings. We will consider all submissions and may adjust our public facing resources to improve public participation in the rulemaking process based on your comments.

Submitting comments. We encourage you to submit comments through the Federal Decision-Making Portal at https://www.regulations.gov. To do so, go to https://www.regulations.gov, type USCG-2023-0589 in the search box and click “Search.” Next, look for this document in the Search Results column, and click on it. Then click on the Comment option. If your material cannot be submitted using http://www.regulations.gov, contact the person in the FOR FURTHER INFORMATION CONTACT section of this document for alternate instructions.

Viewing material in docket. Public comments will also be placed in our online docket and can be viewed by following instructions on the https://www.regulations.gov Frequently Asked Questions web page. We review all comments received, but we may choose not to post off-topic, inappropriate, or duplicate comments that we receive.

Personal information. We accept anonymous comments. Comments we post to https://www.regulations.gov will include any personal information you have provided. For more about privacy and submissions in response to this document, see DHS's eRulemaking System of Records notice (85 FR 14226, March 11, 2020).

Discussion

The Coast Guard Office of Standards Evaluation and Development (CG-REG) is endeavoring to provide to the public as much U.S. Coast Guard data as possible and practicable—resource permitting—in implementation of Title II within the Evidence-Based Policymaking Act of 2018, named the Open Government Data Act. The Open Government Data Act guides federal agencies to make data open by default, subject to certain provisions such as (i) risks and restrictions related to the disclosure of personally identifiable information and (ii) security considerations. This notice shares several U.S. Coast Guard websites where our data resources are available to the public.

The “Annual Vessel Statistics” page provides the public with access to the universe of commercial vessels the U.S. Coast Guard regulates. The statistics available at the time of this notice are for 2021 and 2022; future year statistics will be provided as available. This page also allows you to download a list of publicly available information of these vessels by the vessel's commercial service. On this page, we present the aggregated information. We have also analyzed this information and created a dashboard which help any user quickly understand the scale and change in vessel populations by routes, responsible districts, and classification. The web address for the “Annual Vessel Statistics” page is https://dco.uscg.afpims.mil/Our-Organization/Assistant-Commandant-for-Prevention-Policy-CG-5P/Commercial-Regulations-Standards-CG-5PS/Office-of-Standards-Evaluation-and-Development-CG-REG/Annual-Vessel-Statistics/2022-Annual-Vessel-Statistics/.

In addition, we have created an interactive geospatial dashboard on ArcGIS Pro that displays significant maritime incidents that involved the U.S. Coast Guard from 2012 to 2022. This dashboard defines a significant maritime incident as an incident that resulted in at least $100,000 of property damage or an incident that resulted in three or more injuries or one fatality. This data comes from the Coast Guard's Marine Investigation Safety and Law Enforcement (MISLE) database. This information is displaying publicly available information from the Coast Guard's Port State Information eXchange system: https://cgmix.uscg.mil/PSIX/Default.aspx. The web address for the Significant Maritime Incident GIS Dashboard is https://dco.uscg.afpims.mil/Our-Organization/Assistant-Commandant-for-Prevention-Policy-CG-5P/Commercial-Regulations-Standards-CG-5PS/Office-of-Standards-Evaluation-and-Development-CG-REG/Annual-Vessel-Statistics/GIS/.

This Significant Maritime Incident Dashboard is a visual aid which can help end users better understand specific aspects of the affected populations for the ongoing Coast Guard rulemakings that are on the Unified Agenda of Regulatory and Deregulatory Actions (https://www.reginfo.gov). The data may be useful for public participation in our current Unified Agenda regulatory actions, such as Claims Procedures Under the Oil Pollution Act of 1990 (Regulatory Identification Number: 1625-AA03), Marine Casualty Reporting on the Outer Continental Shelf (1625-AB99), Shipping Safety Fairways Along the Atlantic Coast (1625-AC57), Safety Management Systems for Domestic Passenger Vessels (1625-AC65), and Towing Vessel Firefighting Training (1625-AC64).

We encourage you to submit comments describing your data needs to participate more effectively in Coast Guard rulemaking. In particular, the U.S. Coast Guard requests responses to the following questions:

1. What data could the U.S. Coast Guard provide that would encourage your participation in rulemakings?

2. What data could the U.S. Coast Guard provide that would help your academic research to inform future rulemakings?

3. In addition to the Unified Agenda, how do you recommend the U.S. Coast Guard publicize information about rulemaking activities?

Based on public comment, other factors, and available USCG resources, we may continue to expand the availability of U.S. Coast Guard data resources that may be useful for participating in the rulemaking process.

This notice is issued under authority of 44 U.S. Code 3506(b)(6).

T. Brown,
Office Chief, U.S. Coast Guard, Standards Evaluation and Development.

[FR Doc. 2023-20477 Filed 9-20-23; 8:45 am]

BILLING CODE 9110-04-P